DEPARTMENT OF ENERGY

Federal Energy Regulatory Commission

[Project No. 15044-000]

Maysville PSH, LLC; Notice of Preliminary Permit Application Accepted for Filing and Soliciting Comments, Motions To Intervene, and Competing Applications

On September 10, 2020, Maysville PSH, LLC, filed an application for a preliminary permit, pursuant to section 4(f) of the Federal Power Act (FPA), proposing to study the feasibility of the closed-loop Maysville Pumped Storage Project located in Mason County, Kentucky and Adams County, Ohio. The sole purpose of a preliminary permit, if issued, is to grant the permit holder priority to file a license application during the permit term. A preliminary permit does not authorize the permit holder to perform any land-disturbing activities or otherwise enter upon lands or waters owned by others without the owners' express permission.

The proposed Maysville Pumped Storage Project would consist of the following: (1) A 7,400-foot-long, 110-foot-high roller-compacted concrete ring dam; (2) an upper reservoir with a surface area of 65 acres and a storage capacity of 5,625 acre-feet; (3) a 630-foot-long, 18.5-foot-diameter concrete-lined, inclined headrace tunnel leading to; (4) a 1,020 foot-long, 18.5-foot-diameter high pressure, steel-lined vertical shaft connecting to; (5) three 100-foot-long, 10-foot-diameter steel penstocks; (6) a 400-foot-long by 75-foot-wide and 160-foot-high underground powerhouse containing three 167-megawatt reversible pump-turbines; (7) a 150-foot-long by 75-foot-wide and 44-foot-high underground transformer chamber; (8) a 3,200-foot-long, 21.6-foot-diameter concrete-lined tailrace conduit; (9) a lower reservoir created within excavated underground mine space in Mason County, Kentucky, with a surface area of 120 acres and a storage capacity of 5,556 acre-feet; and (10) a new 2.8-mile-long, 230 kilovolt (kv) transmission line, which would run underground from the transformer chamber through the existing mine for 1.2 miles, continue under the Ohio River through a 0.2-mile-long, 18-foot-diameter tunnel, and then run overhead for 1.4 miles to the point of interconnection with a 345-kV bus at the former Stuart Generating Station in Adams County, Ohio. The proposed project would have an estimated annual generation of 876,000 megawatt-hours.

Applicant Contact: Luigi Resta, Maysville PSH, LLC, 201 S. Main St., Ste. 2000; Salt Lake City, UT 84111; phone: (415) 602-2569.

FERC Contact: Rachel McNamara; phone: (202) 502-8340.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/ QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

More information about this project, including a copy of the application, can be viewed or printed on the “eLibrary” link of the Commission's website at https://elibrary.ferc.gov/eLibrary/search. Enter the docket number (P-15044) in the docket number field to access the document. For assistance, contact FERC Online Support.

Dated: December 8, 2020.
Kimberly D. Bose,
Secretary.

[FR Doc. 2020-27437 Filed 12-11-20; 8:45 am]

BILLING CODE 6717-01-P